DEPARTMENT OF JUSTICE

Office of Justice Programs

[OJP (OJP) Docket No. 1489]

Hearing of the Review Panel on Prison Rape

AGENCY: Office of Justice Programs, Justice

ACTION: Notice of hearing.

SUMMARY: The Office of Justice Programs (OJP) announces that the Review Panel on Prison Rape (Panel), will hold hearings in Springfield, Massachusetts, on September 24, 2008, and in Washington, DC, on September 30 and October 1, 2008. The hearing times and location are noted below. The purpose of the hearings is to assist the Bureau of Justice Statistics (BJS) in identifying common characteristics of victims and perpetrators of prison rape, and prison and prison systems with the highest and lowest incidence of prison rape. On June 25, 2008, BJS issued the report Sexual Victimization in Local Jails Reported by Inmates, 2007. The report provides a listing of local jails ranked according to the prevalence of sexual victimization, and formed the basis of the Panel's decision about which facilities would be the subject of testimony.

DATES: The hearing schedule is as follows:

1. Wednesday, September 24, 2008, 8:30 a.m. to 4:30 p.m. (Hampden County, Massachusetts Correctional Alcohol Center—facility with a low prevalence of sexual victimization);

2. Tuesday, September 30, 2008, 9 a.m. to 5 p.m. (Torrance County, New Mexico Jail—facility with a high prevalence of sexual victimization);

3. Wednesday, October 1, 2008, 9 a.m. to 5 p.m. (Bernalillo County, New Mexico Jail—facility with a high prevalence of sexual victimization).

ADDRESSES: The hearing on September 24, 2008, will take place at the Western New England College, School of Law, 1215 Wilbraham Road, Springfield, Massachusetts 01119-2684. The hearings on September 30, 2008, and October 1, 2008, will take place at the Office of Justice Programs Building, Main Conference Room, Third Floor, U.S. Department of Justice, 810 7th Street, NW., Washington, DC 20531.

FOR FURTHER INFORMATION CONTACT: Christopher Zubowicz, Designated Federal Official, OJP, christopher.zubowicz@usdoj.gov, (202) 307-0690.

Note: This is not a toll free number.

SUPPLEMENTARY INFORMATION: This notice corrects the one issued August 19, 2008, regarding upcoming Review Panel hearings. The current notice reflects the postponement of the hearing scheduled on September 25, 2008, in Springfield, Massachusetts, involving the Rose M. Singer Center, New York City Department of Correction. It also correctly states the days of the September 30 and October 1 hearings (Tuesday and Wednesday, respectively) which were incorrectly stated in the August 19, 2008, Federal Register Notice.

The Panel, which was established pursuant to the Prison Rape Elimination Act of 2003, Public Law 108-79, 117 Stat. 972 (codified as amended at 42 U.S.C. 15601-15609 (2006)), will hold its next hearings to carry out the review functions specified at 42 U.S.C. 15603(b)(3)(A). Testimony from the hearing will assist the Panel in formulating best practices for deterring prison rape. Space is limited at all hearing locations. Members of the public who wish to attend the hearing in Springfield, Massachusetts, should RSVP to Barb Cooley at Western New England College, School of Law, before 3:00 p.m., of the day preceding the hearing. Ms. Cooley can be contacted at 413-782-1624. Members of the public who wish to attend the hearing in Washington, DC, must present photo identification upon entrance to the Office of Justice Programs. Special needs requests should be made to Christopher Zubowicz, Designated Federal Official, OJP, christopher.zubowicz@usdoj.gov or 202-307-0690, at least one week prior to the hearing.

Michael Alston,
Office of Justice Programs.

[FR Doc. E8-22254 Filed 9-22-08; 8:45 am]

BILLING CODE 4410-18-P